DEPARTMENT OF COMMERCE

National Institute of Standards and Technology

Government Owned Inventions Available for Licensing

AGENCY: National Institute of Standards and Technology, Commerce.

ACTION: Notice of Government owned inventions available for licensing.

SUMMARY: The inventions listed below are owned in whole or in part by the U.S. Government, as represented by the Department of Commerce, and are available for licensing in accordance with 35 U.S.C. 207 and 37 CFR Part 404 to achieve expeditious commercialization of result of federally funded research and development.

FOR FURTHER INFORMATION CONTACT: Technical and licensing information on these inventions may be obtained by writing to: National Institute of Standards and Technology, Office of Technology Partnerships, Building 820, Room 213, Gaithersburg, MD 20899; Fax 301-869-2751. Any request for information should include the NIST docket No. and Title for the relevant invention as indicated below.

SUPPLEMENTARY INFORMATION: The invention listed below was made jointly by scientists from NIST and from Schott Glass Technologies Inc. under the auspices of a Cooperative Research and Development agreement (CRADA). In 1995 all rights in the invention were assigned to the United States, as represented by the Secretary of Commerce. Pursuant to the terms of the CRADA, Schott Glass currently retains the rights to negotiate, on Schott Glass's behalf, the terms of a non-exclusive commercialization license to the invention. NIST may enter into a CRADA with the licensee to perform further research on the invention for purposes of commercialization. The invention available for licensing is:

NIST Docket Number: 93-039CIP

Title: Integrated Optic Laser

Abstract; A laser waveguide medium is provided comprising:

A laser glass substrate wherein the substrate is a glass comprising (on an oxide composition basis):

| Mole%
P2O2 | 50-70
A12O3 | 4-13
Na2O | 10-35
La2O3 | 0-6
Ln2O3 | >0-6
R¹O | 0-20
R2O | 0-18

Wherein Ln2O3 is the sum of the oxides, of active lasing lanthanides of atomic number 58-71, R¹O is the sum of oxides of Mg, Ca, Cr, Ba, Zn and Pb, and R2O is the sum of oxides of Li, K, Rb and Cs; and

A waveguide region embedded in the substrate, the waveguide region having a higher refractive index than the substrate and the waveguide region having an inlet region through which light can enter and an outlet region through which light can exit.

Dated: March 5, 2001.
Karen H. Brown,
Acting Director.

[FR Doc. 01-5848 Filed 3-8-01; 8:45 am]

BILLING CODE 3510-13-M